DEPARTMENT OF ENERGY

Federal Energy Regulatory Commission

[Docket No. RP02-532-000]

Guardian Pipeline Company, L.L.C.; Notice of Proposed Changes in FERC Gas Tariff

September 10, 2002.

Take notice that on September 3, 2002, Guardian Pipeline Company, L.L.C. Guardian), tendered for filing as part of its FERC Gas Tariff, Original Volume No. 1, the revised tariff sheets listed on Appendix A attached to the filing proposed to be effective November 1, 2002.

Guardian states that the purpose of this filing is to make certain changes to its tariff primarily of a “housekeeping” nature. Guardian explains that the tariff sheets submitted herewith revise those filed by Guardian in its “Compliance Filing,” the filing that Guardian is making on the same date in compliance with the Commission's directives in the Preliminary Determination on Non-Environmental Issues, 91 FERC (CCH) 61,285 (2000), and Order on Rehearing and Issuing Certificates, 94 FERC (CCH) 61,269 (2001), issued in Docket Nos. CP00-36, et al.

Guardian states that copies of this tariff filing are being served on its shippers and the Wisconsin and Illinois public service commissions.

Any person desiring to be heard or to protest said filing should file a motion to intervene or a protest with the Federal Energy Regulatory Commission, 888 First Street, NE, Washington, DC 20426, in accordance with sections 385.214 or 385.211 of the Commission's rules and regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-23451 Filed 9-13-02; 8:45 am]

BILLING CODE 6717-01-P